DEPARTMENT OF COMMERCE

International Trade Administration

[A-580-813]

Notice of Extension of Time Limit of Final Results of New Shipper Review: Stainless Steel Butt-Weld Pipe Fittings From Korea

AGENCY: Import Administration, International Trade Administration, Department of Commerce.

ACTION: Notice of extension of time limit of final results of new shipper review.

EFFECTIVE DATE: October 31, 2002.

FOR FURTHER INFORMATION CONTACT: Fred Baker at (202) 482-2924 or Robert James at (202) 482-0649; Antidumping and Countervailing Duty Enforcement Group III, Office Eight, Import Administration, International Trade Administration, U.S. Department of Commerce, 14th Street and Constitution Avenue, NW., Washington, DC 20230.

The Applicable Statute and Regulations

Unless otherwise indicated, all citations to the statute are references to the provisions effective January 1, 1995, the effective date of the amendments made to the Tariff Act of 1930 (the Tariff Act) by the Uruguay Round Agreements Act (URAA). In addition, unless otherwise indicated, all citations to the Department of Commerce (the Department) regulations refer to the regulations codified at 19 CFR part 351 (April 2001).

Background

On August 31, 2001 the Department received a timely request for a new shipper review, in accordance with section 751(a)(2)(B) of the Tariff Act and section 351.214(c) of the Department's regulations, from TK Corporation, a producer of stainless steel butt-weld pipe fittings. On October 5, 2001, the Department initiated the new shipper review. See Stainless Steel Butt-Weld Pipe Fittings from Korea: Notice of Initiation of New Shipper Antidumping Duty Review, 66 FR 51017 (October 5, 2001).

On April 3, 2002 the Department extended the time limit for completion of the preliminary results of new shipper review. See Notice of Extension of Time Limit of Preliminary Results of New Shipper Review: Stainless Steel Butt-Weld Pipe Fittings from Korea, 67 FR 15793 (April 3, 2002). We published our preliminary results on July 17, 2002. See Preliminary Results of New Shipper Review, 67 FR 46953 (July 17, 2002).

Extension of Time Limit for Final Results

Section 751(a)(2)(B)(iv) of the Tariff Act, requires the Department to make a final determination within 90 days after the date on which the preliminary determination is issued. However, if the Department concludes that the case is extraordinarily complicated, it may extend the 90-day period to 150 days. In this case, questions have arisen regarding the best method of liquidating the respondent's entries. Due to the need to analyze this question, the Department is extending, in accordance with section 751(a)(3)(A) of the Tariff Act, the time limit for the final results by 60 days, until no later than December 7, 2002, or the first workday thereafter.

This notice is published in accordance with section 751(a)(2)(B)(iv) of the Tariff Act.

Dated: October 25, 2002.
Richard O. Weible,
Acting Deputy Assistant Secretary for Import Administration, Group III.

[FR Doc. 02-27711 Filed 10-30-02; 8:45 am]

BILLING CODE 3510-DS-P